DEPARTMENT OF ENERGY

Federal Energy Regulatory Commission

[Docket No. EC00-66-000, et al.];

Consolidated Water Power Company, et al.; Electric Rate and Corporate Regulation Filings

April 4, 2000.

Take notice that the following filings have been made with the Commission:

1. Consolidated Water Power Company

[Docket No. EC00-66-000]

Take notice that on March 23, 2000, Consolidated Water Power Company (CWPCo), a wholly-owned subsidiary of Consolidated Papers, Inc. (Consolidated Papers), on its own behalf and on behalf of Stora Enso Oyj (Stora Enso, and together with CWPCo, the Applicants), tendered for filing an application pursuant to section 203 of the Federal Power Act and Part 33 of the Regulations of the Commission for an order authorizing the merger of Consolidated Papers with Stora Enso Acquisition, Inc., a subsidiary of Stora Enso. (the “Transaction”). The Transaction is being made pursuant to the terms of the Agreement and Plan of Merger dated as of February 22, 2000, between Stora Enso and Consolidated Papers.

Comment date: May 22, 2000, in accordance with Standard Paragraph E at the end of this notice.

2. Lakewood Cogeneration Limited Partnership

[Docket No. EC00-68-000]

Take notice that on March 29, 2000, Lakewood Cogeneration Limited Partnership (LCLP), a Delaware limited partnership, submitted an application, pursuant to 18 CFR 33, seeking authority under Section 203 of the Federal Power Act for a change in control of the ownership of LCLP. LCLP owns a 238 MW natural gas-fired exempt wholesale generating facility located in Lakewood Township, New Jersey.

HYDRA-CO Enterprises, Inc., an indirect subsidiary of CMS Energy Corporation, has agreed to sell its 80% direct or indirect ownership interests in LCLP to Consolidated Edison Development, Inc., a subsidiary of Consolidated Edison, Inc.

Comment date: April 28, 2000, in accordance with Standard Paragraph E at the end of this notice.

3. Riverside Generating Company, L.L.C.

[Docket No. EG00-99-000]

Take notice that on March 28, 2000, Riverside Generating Company, L.L.C., 1000 Louisiana, Suite 5800, Houston, Texas filed with the Federal Energy Regulatory Commission an amendment to its application in the above-referenced docket for determination of exempt wholesale generator status pursuant to Part 365 of the Commission's Regulations.

Comment date: April 25, 2000, in accordance with Standard Paragraph E at the end of this notice. The Commission will limit its consideration of comments to those that concern the adequacy or accuracy of the application.

4. Indeck Operations, Inc.

[Docket No. EG00-120-000]

Take notice that on March 29, 2000, Indeck Operations, Inc. filed with the Federal Energy Regulatory Commission an application for determination of exempt wholesale generator status pursuant to Part 365 of the Commission's regulations. Indeck Operations, Inc. is a privately held Illinois corporation, which will operate a gas-fired generation facility located in Rockford, Illinois (the Facility).

The Facility will consist of two simple-cycle gas-fired combustion turbine driven synchronous generators and associated accessories, with a maximum power production capacity of approximately 300 MW. The plant will be an “eligible facility” within the meaning of section 32(a)(2) of the Public Utility Holding Company Act of 1935 because it will be used for the generation of electric energy exclusively for sale at wholesale.

Comment date: April 25, 2000, in accordance with Standard Paragraph E at the end of this notice. The Commission will limit its consideration of comments to those that concern the adequacy or accuracy of the application.

5. Indeck-Rockford Equipment, L.L.C.

[Docket No. EG00-121-000]

Take notice that on March 29, 2000, Indeck-Rockford Equipment, L.L.C. filed with the Federal Energy Regulatory Commission an application for determination of exempt wholesale generator status pursuant to Part 365 of the Commission's regulations. Indeck-Rockford, L.L.C. is an Illinois limited liability company and the initial owner of the generating equipment to be used at a gas-fired facility located in Rockford, Illinois (the Facility).

The Facility will consist of two simple-cycle gas-fired combustion turbine driven synchronous generators and associated accessories, with a maximum power production capacity of approximately 300 MW. The plant will be an “eligible facility” within the meaning of section 32(a)(2) of the Public Utility Holding Company Act of 1935 because it will be used for the generation of electric energy exclusively for sale at wholesale.

Comment date: April 25, 2000, in accordance with Standard Paragraph E at the end of this notice. The Commission will limit its consideration of comments to those that concern the adequacy or accuracy of the application.

6. Indeck-Rockford, L.L.C.

[Docket No. EG00-122-000]

Take notice that on March 29, 2000, Indeck-Rockford, L.L.C. filed with the Federal Energy Regulatory Commission an application for determination of exempt wholesale generator status pursuant to Part 365 of the Commission's regulations. Indeck-Rockford, L.L.C. is an Illinois limited liability company created for the purpose of causing the construction and owning and/or operating a gas-fired facility located in Rockford, Illinois (the Facility).

The Facility will consist of two simple-cycle gas-fired combustion turbine driven synchronous generators and associated accessories, with a maximum power production capacity of approximately 300 MW. The plant will be an “eligible facility” within the meaning of section 32(a)(2) of the Public Utility Holding Company Act of 1935 because it will be used for the generation of electric energy exclusively for sale at wholesale.

Comment date: April 25, 2000, in accordance with Standard Paragraph E at the end of this notice. The Commission will limit its consideration of comments to those that concern the adequacy or accuracy of the application.

7. Williams Energy Marketing & Trading Company

[Docket No. ER00-2030-000]

Take notice that on March 29, 2000, Williams Energy Marketing & Trading Company (Williams EM&T) tendered for filing pursuant to section 205 of the Federal Power Act (FPA), 16 U.S.C. 824d (1994), and part 35 of the Commission's Regulations, 18 CFR part 35, its Third Revised FERC Electric Rate Schedule No. 1.

The primary purpose of the filing is to update Williams EM&T's existing FERC Electric Rate Schedule No. 1 to expand Williams EM&T's existing wholesale ancillary services authority. Specifically, in addition to Williams EM&T's current wholesale ancillary services authority in California, the Third Revised FERC Electric Rate Schedule No. 1 would provide wholesale ancillary services authority in the New England Power Pool, the New York Power Pool, the Pennsylvania-New Jersey-Maryland Inter-connection, and other markets. The revised Rate Schedule also makes other minor changes.

Williams EM&T requests waiver of the prior notice requirements of Section 35.3 of the Commission's regulations, 18 CFR 35.3, to permit its Third Revised FERC Electric Rate Schedule No. 1 to become effective as of May 1, 2000.

Comment date: April 19, 2000, in accordance with Standard Paragraph E at the end of this notice.

8. PPL Electric Utilities Corporation

[Docket No. ER00-2031-000]

Take notice that on March 29, 2000, PPL Electric Utilities Corporation filed a Notice stating that effective May 29, 2000, Rate Schedule FERC No. 111, effective on July 1, 1992 and filed with the Federal Energy Regulatory Commission by PPL Electric Utilities Corporation, formerly known as PP&L, Inc., is to be canceled.

Notice of the proposed cancellation has been served upon New York power Authority.

Comment date: April 19, 2000, in accordance with Standard Paragraph E at the end of this notice.

9. PPL Electric Utilities Corporation

[Docket No. ER00-2032-000]

Take notice that on March 29, 2000, PPL Electric Utilities Corporation filed a Notice stating that effective May 29, 2000, Rate Schedule FERC No. 76, effective on December 3, 1982 and filed with the Federal Energy Regulatory Commission by PPL Electric Utilities Corporation, formerly known as PP&L, Inc., is to be canceled.

Notice of the proposed cancellation has been served upon Consolidated Edison Company of New York, Inc.

Comment date: April 19, 2000, in accordance with Standard Paragraph E at the end of this notice.

10. PPL Electric Utilities Corporation

[Docket No. ER00-2033-000]

Take notice that on March 29, 2000, PPL Electric Utilities Corporation filed a Notice stating that effective May 29, 2000, Rate Schedule FERC No. 102 effective on February 15, 1991 and filed with the Federal Energy Regulatory Commission by PPL Electric Utilities Corporation, formerly known as PP&L, Inc., is to be canceled.

Notice of the proposed cancellation has been served upon GPU Service Corporation.

Comment date: April 19, 2000, in accordance with Standard Paragraph E at the end of this notice.

11. PPL Electric Utilities Corporation

[Docket No. ER00-2034-000]

Take notice that on March 29, 2000, PPL Electric Utilities Corporation file a Notice stating that effective May 29, 2000, Rate Schedule FERC No. 131, effective on June 1, 1994 and filed with the Federal Energy Regulatory Commission by PPL Electric Utilities Corporation, formerly known as PP&L, Inc., is to be canceled.

Notice of the proposed cancellation has been served upon Potomac Electric Power Company.

Comment date: April 19, 2000, in accordance with Standard Paragraph E at the end of this notice.

12. PPL Electric Utilities Corporation

[Docket No. ER00-2035-000]

Take notice that on March 29, 2000, PPL Electric Utilities Corporation filed a Notice stating that effective May 29, 2000, Rate Schedule FERC No. 142, effective on October 12, 1994 and filed with the Federal Energy Regulatory Commission by PPL Electric Utilities Corporation, formerly known as PP&L, Inc., is to be canceled.

Notice of the proposed cancellation has been served upon Consolidated Edison Company of New York, Inc.

Comment date: April 19, 2000, in accordance with Standard Paragraph E at the end of this notice.

13. PPL Electric Utilities Corporation

[Docket No. ER00-2036-000]

Take notice that on March 29, 2000, PPL Electric Utilities Corporation filed a Notice stating that effective May 29, 2000, Rate Schedule FERC No. 143, effective on October 12, 1994 and filed with the Federal Energy Regulatory Commission by PPL Electric Utilities Corporation, formerly known as PP&L, Inc., is to be canceled.

Notice of the proposed cancellation has been served upon Dynegy Inc.

Comment date: April 19, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-8898 Filed 4-10-00; 8:45 am]

BILLING CODE 6717-01-P